DEPARTMENT OF LABOR

Employment and Training Administration

[TA-W-40,728]

Mikan Group, Inc., Long Island City, New York; Amended Certification Regarding Eligibility To Apply for Worker Adjustment Assistance

In accordance with section 223 of the Trade Act of 1974 (19 U.S.C. 2273) the Department of Labor issued a Certification of Eligibility to Apply for Worker Adjustment Assistance on October 23, 2002, applicable to workers of Milkan Group, New York, New York. The notice was published in the Federal Register on November 5, 2002 (67 FR 67420).

At the request of the State agency, the Department reviewed the certification for workers of the subject firm. The workers produced ladies' skirts and pants. The review shows that the notice incorrectly identified the company name and city. Consequently, the Department is amending the certification to reflect the correct spelling of the company name to read Mikan Group, Inc., and the city in New York where the plant was located to read Long Island City.

The amended notice applicable to TA-W-40,728 is hereby issued as follows:

“All workers at Mikan Group, Inc., Long Island City, New York, who became totally or partially separated from employment on or after December 5, 2000, through October 23, 2004, are eligible to apply for adjustment assistance under section 223 of the Trade Act of 1974.”

Signed at Washington, DC this 13th day of November, 2002.
Linda G. Poole,
Certifying Officer, Division of Trade Adjustment Assistance.

[FR Doc. 02-31060 Filed 12-6-02; 8:45 am]

BILLING CODE 4510-30-P